DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 3, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Restricted, Prohibited, and Controlled Importation of Animal and Poultry Products and Byproducts, Into the United States.

OMB Control Number: 0579-0015.

Summary of Collection: The Animal Health Protection Act (AHPA) of 2002 is the primary Federal law governing the protection of animal health. The law gives the Secretary of Agriculture broad authority to detect, control, or eradicate pests or diseases of livestock or poultry. Disease prevention is the most effective method for maintaining a healthy animal population and for enhancing the Animal and Plant Health Inspection Service's (APHIS') ability to bolster the United States' capability to compete globally in animal and animal product trade. In connection with this mission, APHIS enforces regulations regarding both the importation of controlled materials and the prevention of foreign animal disease incursions into the United States. These regulations can be found at title 9, chapter I, subchapter D, parts 94, 95, 96, and 122 of the Code of Federal Regulations (CFR).

Need and Use of the Information: APHIS will collect information to ensure that imported items do not present a disease risk to the livestock and poultry populations of the United States. The information collected will provide APHIS with critical information concerning the origin and history of the items destined for importation into the United States. If this information were collected less frequently or not collected, the United States would be at increased risk for the introduction of FMD, ASF, CSF, swine vesicular disease (SVD), ND, or HPAI. This would cause serious economic consequences to several United States livestock industries and potentially serious health consequences for United States livestock.

Description of Respondents: Business or other for-profit; Not for-profit institutions; Foreign Government.

Number of Respondents: 30,902.

Frequency of Responses: Recordkeeping; Reporting; On occasion; Quarterly.

Total Burden Hours: 113,354.

Ruth Brown,
Departmental Information Collection Clearance Officer.

[FR Doc. 2022-18988 Filed 9-1-22; 8:45 am]

BILLING CODE 3410-34-P